DEPARTMENT OF ENERGY

Federal Energy Regulatory Commission

Combined Notice of Filings #1

September 30, 2005.

Take notice that the Commission received the following electric rate filings:

Docket Numbers: ER02-1406-010; ER99-2928-006; ER96-2677-007.

Applicants: Acadia Power Partners, LLC; Cleco Evangeline LL; Cleco Power LLC.

Description: Acadia Power Partners, LLC et al. notify the Commission of a change in status as a result of their affiliation with an owner of a transmission facility, pursuant to the Commission's Order 652.

Filed Date: 09/26/2005.

Accession Number: 20050928-0217.

Comment Date: 5 p.m. Eastern Time on Monday, October 17, 2005.

Docket Numbers: ER02-2400-004.

Applicants: Southern California Water Company.

Description: Southern California Water Co submits its triennial market-power analysis in compliance with Commission Order issued 9/27/02.

Filed Date: 09/26/2005.

Accession Number: 20050928-0215.

Comment Date: 5 p.m. Eastern Time on Monday, October 17, 2005.

Docket Numbers: ER05-1086-002.

Applicants: ISO New England Inc.

Description: ISO New England, Inc submits a Coordination Agreement between ISO and New Brunswick System Operator, Inc.

Filed Date: 09/26/2005.

Accession Number: 20050928-0214.

Comment Date: 5 p.m. Eastern Time on Monday, October 17, 2005.

Docket Numbers: ER05-1508-000.

Applicants: Midwest Independent Transmission System Operator, Inc.

Description: Midwest Independent Transmission System Operator Inc. submits a Large Generator Interconnection Agreement among Power Partners Midwest LLC, Midwest ISO, and Interstate Power and Light Co.

Filed Date: 09/26/2005.

Accession Number: 20050927-0023.

Comment Date: 5 p.m. Eastern Time on Monday, October 17, 2005.

Docket Numbers: ER05-1509-000.

Applicants: Arizona Public Service Company.

Description: Arizona Public Service Co. submits a compliance filing to its Open Access Transmission Tariff in response to FERC Order 2006.

Filed Date: 09/26/2005.

Accession Number: 20050928-0211.

Comment Date: 5 p.m. Eastern Time on Monday, October 17, 2005.

Docket Numbers: ER05-926-001

Applicants: Midwest Independent Transmission System Operator, Inc.

Description: Midwest Independent Transmission System Operator, Inc. submits the Large Generator Interconnection Agreement among Okoboji Wind Farm, LLC, Midwest ISO, and Interstate Power & Light Co.

Filed Date: 08/30/2005.

Accession Number: 20050831-0052.

Comment Date: 5 p.m. Eastern Time on Tuesday, October 11, 2005.

Docket Numbers: ER05-949-001.

Applicants: Midwest Independent Transmission System Operator, Inc.

Description: Midwest Independent Transmission System Operator, Inc submits its Large Generator Interconnection Agreement with Power Partners Midwest, LLC, Midwest ISO, and Northern Indiana Public Service Co.

Filed Date: 08/30/2005.

Accession Number: 20050831-0051.

Comment Date: 5 p.m. Eastern Time on Tuesday, October 11, 2005.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-5503 Filed 10-5-05; 8:45 am]

BILLING CODE 6717-01-P